DEPARTMENT OF TRANSPORTATION

Federal Aviation Administration

14 CFR Part 39

[Docket No. FAA-2006-25389; Directorate Identifier 2006-NM-059-AD]

RIN 2120-AA64

Airworthiness Directives; Airbus Model A330, A340-200, and A340-300 Series Airplanes

AGENCY: Federal Aviation Administration (FAA), Department of Transportation (DOT).

ACTION: Notice of proposed rulemaking (NPRM).

SUMMARY: The FAA proposes to supersede an existing airworthiness directive (AD) that applies to all Airbus Model A330, A340-200, and A340-300 series airplanes. The existing AD currently requires repetitive inspections of a certain bracket that attaches the flight deck instrument panel to the airplane structure; replacement of the bracket with a new, improved bracket; and related investigative and corrective actions if necessary. This proposed AD would add a requirement for replacement of the existing bracket with a titanium-reinforced bracket, which would end the repetitive inspections in the existing AD. This proposed AD would also require related investigative and corrective actions while accomplishing the replacement, and would reduce the applicability in the existing AD. This proposed AD results from a report of cracking damage found on certain brackets that were replaced per the requirements in the existing AD. We are proposing this AD to prevent a cracked bracket. Failure of this bracket, combined with failure of the horizontal beam, could result in collapse of the left part of the flight deck instrument panel, and consequent reduced controllability of the airplane.

DATES: We must receive comments on this proposed AD by August 18, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Backman, Aerospace Engineer, International Branch, ANM-116, Transport Airplane Directorate, FAA, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed in the ADDRESSES section. Include the docket number “Docket No. FAA-2006-25389; Directorate Identifier 2006-NM-059-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On March 8, 2005, we issued AD 2005-06-08, amendment 39-14016 (70 FR 13345, March 21, 2005), for all Airbus Model A330, A340-200, and A340-300 series airplanes. That AD requires repetitive inspections of a certain bracket that attaches the flight deck instrument panel to the airplane structure; replacement of the bracket with a new, improved bracket; and related investigative and corrective actions if necessary. That AD resulted from reports of cracking of a certain bracket that attaches the flight deck instrument panel to the airplane structure. We issued that AD to detect and correct a cracked bracket. Failure of this bracket, combined with failure of the horizontal beam, could result in collapse of the left part of the flight deck instrument panel, and consequent reduced controllability of the airplane.

Actions Since Existing AD Was Issued

Since AD 2005-06-08 was issued, cracking damage found on certain brackets that were replaced per the requirements in the existing AD. In addition, the preamble to AD 2005-06-08 explained that we considered the requirements “interim action” and were considering further rulemaking. We now have determined that further rulemaking is indeed necessary, and this proposed AD follows from that determination.

Relevant Service Information

Airbus has issued Service Bulletins A330-25-3227 and A340-25-4230, both Revision 01, both dated May 3, 2005. (The original issue of the service bulletins was referenced as the appropriate source of service information for accomplishing the actions in the existing AD.) Revision 01 of the service bulletins is essentially the same as the original.

Airbus has also issued new Service Bulletins A330-25-3249 and A340-25-4245, both dated May 3, 2005. The service bulletins describe procedures for replacing the existing bracket that attaches the flight deck instrument panel to the airplane structure with a titanium-reinforced bracket, and related investigative and corrective actions if necessary. The replacement eliminates the need for the repetitive inspections. The related investigative action includes a detailed inspection for cracking of the bracket; the corrective action includes a detailed inspection of the horizontal beam if two lugs are fully broken. The service bulletins recommend contacting Airbus for repair of cracking. Accomplishing the actions specified in the service information is intended to adequately address the unsafe condition.

The European Aviation Safety Agency (EASA) mandated the service information and issued airworthiness directives 2006-0045 and 2006-0047, both dated February 16, 2006, to ensure the continued airworthiness of these airplanes in the European Union.

FAA's Determination and Requirements of the Proposed AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for products of this type design that are certificated for operation in the United States.

This proposed AD would supersede AD 2005-06-08 and would retain certain requirements of the existing AD; however, the reporting requirement is no longer necessary and is not retained in this proposed AD. This proposed AD would also require accomplishing the actions specified in the new service information described previously, except as discussed under “Differences Between Proposed AD and EASA Airworthiness Directives.”

Differences Between Proposed AD and EASA Airworthiness Directives

The referenced EASA airworthiness directives require contacting Airbus for instructions on how to repair certain conditions. This proposed AD requires repairing those conditions using a method that we or the EASA approve. In light of the type of repair that would be required to address the unsafe condition, and consistent with existing bilateral airworthiness agreements, we have determined that, for this proposed AD, a repair we or the EASA (or its delegated agent) approve would be acceptable for compliance with this proposed AD.

In addition, the referenced EASA airworthiness directives are not clear regarding the requirement to replace not only brackets having part number (P/N) F2511012920000 but also brackets having P/N F2511012920095 (the P/N for the replacement bracket in the existing AD). We have clarified that brackets with the latter P/Ns must also be replaced with titanium-reinforced brackets having P/N F2511305220096, since both of these brackets are susceptible to eventual cracking damage. Airbus Service Bulletins A330-25-3227 and A340-25-4230 specify replacing brackets having P/N F2511012920000 with brackets having P/N F2511012920095, and both P/Ns are subject to repetitive inspection requirements. The proposed AD clarifies that both P/Ns would be required to be replaced, as specified in paragraph (k) of the new requirements.

Although the referenced EASA airworthiness directives specify the bracket location as “the left-hand bracket,” this proposed AD does not include that description. The part numbers for affected brackets are located only on the left-hand side of the cockpit instrument panel; therefore, we have used the term “certain brackets” to be consistent with the language used in the existing AD.

Clarification of Alternative Method of Compliance (AMOC) Paragraph

We have revised this action to clarify the appropriate procedure for notifying the principal inspector before using any approved AMOC on any airplane to which the AMOC applies.

Costs of Compliance

This proposed AD would affect about 24 Model A330 series airplanes of U.S. registry.

The inspections that are required by AD 2005-06-08 and retained in this proposed AD take about 1 work hour per airplane, at an average labor rate of $80 per work hour. Based on these figures, the estimated cost of the currently required actions is $80 per airplane, per inspection cycle.

The new proposed replacement and investigative actions would take about 9 work hours per airplane, at an average labor rate of $80 per work hour. Required parts would cost about $330 per airplane. Based on these figures, the estimated cost of the new actions specified in this proposed AD for U.S. operators is $25,200, or $1,050 per airplane.

There are currently no affected Model A340-200 and -300 series airplanes of U.S. registry. However, if one of these airplanes is imported and put on the U.S. Register in the future, these cost estimates would also apply to those airplanes.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14016 (70 FR 13345, March 21, 2005) and adding the following new airworthiness directive (AD):

Airbus: Docket No. FAA-2006-25389; Directorate Identifier 2006-NM-059-AD.

Comments Due Date

(a) The FAA must receive comments on this AD action by August 18, 2006.

Affected ADs

(b) This AD supersedes AD 2005-06-08.

Applicability

(c) This AD applies to Airbus Model A330, A340-200, and A340-300 series airplanes; certificated in any category; except airplanes on which Airbus Modification 53446 has been incorporated in production.

Unsafe Condition

(d) This AD results from a report of cracking damage found on certain brackets that were replaced to address an unsafe condition. We are issuing this AD to prevent a cracked bracket. Failure of this bracket, combined with failure of the horizontal beam, could result in collapse of the left part of the flight deck instrument panel, and consequent reduced controllability of the airplane.

Compliance

(e) You are responsible for having the actions required by this AD performed within the compliance times specified, unless the actions have already been done.

Restatement of Certain Requirements of AD 2005-06-08

Service Bulletin Reference

(f) The term “service bulletin,” as used in this AD, means the Accomplishment Instructions of Airbus Service Bulletins A330-25-3227 (for Model A330 series airplanes) and A340-25-4230 (for Model A340-200 and -300 series airplanes), both Revision 01, both dated May 3, 2005; as applicable. Accomplishment before the effective date of this AD of Airbus Service Bulletins A330-25-3227 and A340-25-4230, both including Appendix 01; both dated June 17, 2004; as applicable, is an acceptable means of compliance for paragraphs (g), (h), and (i) of this AD.

Initial Inspection

(g) At the applicable time specified in paragraph (g)(1) or (g)(2) of this AD, perform a detailed inspection of the bracket having part number (P/N) F2511012920000, which attaches the flight deck instrument panel to airplane structure, in accordance with the service bulletin.

(1) For Model A330 series airplanes: Prior to the accumulation of 16,500 total flight cycles, or within 60 days after April 25, 2005 (the effective date of AD 2005-06-08), whichever is later.

(2) For Model A340-200 and -300 series airplanes: Prior to the accumulation of 9,700 total flight cycles, or within 2,700 flight cycles after April 25, 2005, whichever is later.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

No Cracking/Repetitive Inspections

(h) If no crack is found during the initial inspection required by paragraph (g) of this AD: Repeat the inspection thereafter at the applicable interval specified in paragraph (h)(1) or (h)(2) of this AD, until the replacement specified in paragraph (k) of this AD has been accomplished.

(1) For Model A330 series airplanes: Intervals not to exceed 13,800 flight cycles.

(2) For Model A340-200 and -300 series airplanes: Intervals not to exceed 7,000 flight cycles.

Crack Found/Replacement and Repetitive Inspections

(i) If any crack is found during any inspection required by paragraph (g) or (h) of this AD: Do the actions in paragraphs (i)(1) and (i)(2) of this AD, except as provided by paragraph (j) of this AD, until accomplishment of the replacement required by paragraph (k) of this AD.

(1) Before further flight: Replace the cracked bracket with a new, improved bracket having P/N F2511012920095, in accordance with the service bulletin.

(2) Repeat the inspection of the replaced bracket as required by paragraph (g) of this AD, at the time specified in paragraph (i)(2)(i) or (i)(2)(ii) of this AD. Then, do repetitive inspections or replace the bracket as specified in paragraph (h) or (i) of this AD, as applicable.

(i) For Model A330 series airplanes: Within 16,500 flight cycles after replacing the bracket.

(ii) For Model A340-200 and -300 series airplanes: Within 9,700 flight cycles after replacing the bracket.

(j) If both flanges of a bracket are found broken during any inspection required by this AD: Before further flight, replace the bracket as specified in paragraph (i) of this AD and perform any applicable related investigative and corrective actions (which may include inspections for damage to surrounding structure caused by the broken bracket, and corrective actions for any damage that is found), in accordance with a method approved by the Manager, International Branch, ANM-116, Transport Airplane Directorate, FAA; or the European Aviation Safety Agency (EASA) (or its delegated agent).

New Requirements of This AD

Replacement of Brackets/Investigative and Corrective Actions

(k) Except as required by paragraph (i)(1) of this AD: Within 72 months after the effective date of this AD, replace existing brackets having P/N F2511012920000 or P/N F2511012920095 with titanium-reinforced brackets having P/N F2511305220096; and perform any related investigative and corrective actions (which may include detailed inspections for cracking of the bracket or damage to surrounding structure caused by a broken bracket, and applicable corrective actions for any damage that is found); in accordance with the service bulletin. If any crack is found, before further flight, repair in accordance with the service bulletin. Replacement of the affected bracket with a titanium-reinforced bracket having P/N F2511305220096 ends the repetitive inspections required by paragraph (h) or (i) of this AD.

Alternative Methods of Compliance (AMOCs)

(l)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(m) EASA airworthiness directives 2006-0045 and 2006-0047, both dated February 16, 2006, also address the subject of this AD.

Issued in Renton, Washington, on July 11, 2006.
Ali Bahrami,
Manager, Transport Airplane Directorate, Aircraft Certification Service.

[FR Doc. E6-11417 Filed 7-18-06; 8:45 am]

BILLING CODE 4910-13-P